DEPARTMENT OF ENERGY

Agency Information Collection Extension

AGENCY: U.S. Department of Energy.

ACTION: Notice and request for comments.

SUMMARY: The Department of Energy (DOE), pursuant to the Paperwork Reduction Act of 1995, intends to extend for three years, an information collection request with the Office of Management and Budget (OMB) concerning the Department-wide Printing and Publishing Activities. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before March 17, 2008. If you anticipate difficulty in submitting comments within that period, contact the person listed below as soon as possible.

ADDRESSES: Written comments may be sent to: Dallas Woodruff, U.S. Department of Energy, Lead Printing Specialist, MA-421, 1000 Independence Ave, SW., Washington, DC 20585, or by fax at 202-586-0753 or by e-mail at dallas.woodruff@hq.doe.gov.

FOR FURTHER INFORMATION CONTACT: Requests for additional information or copies of the information collection instrument and instructions should be directed to Dallas Woodruff at the address listed above.

SUPPLEMENTARY INFORMATION: This package contains: (1) OMB No. 1910-0100; (2) Information Collection Request Title: “Printing and Publishing Activities; (3) Type of Review: Renewal; (4) Purpose: The collection of data is a Joint Committee on Printing (JCP) requirement. The Department reports on information gathered and compiled from its facilities nation-wide on the usage of in-house printing and duplicating activities as well as all printing production from external Government Printing Office vendors; (5) Respondents: 163; (6) Estimated Number of Burden Hours: 1,607. Number of Collections: The package contains 4 information and/or recordkeeping requirements.

Statutory Authority: This information is reported to the Joint Committee on Printing. See U.S. Code Title 44, section 103, 501, 504 and the Government Printing and Binding Regulations, Title IV; Joint Committee on Printing Report Forms.

Issued in Washington, DC on January 10, 2008.
Mary R. Anderson,
Director, Office of Administrative Management and Support.

[FR Doc. E8-644 Filed 1-15-08; 8:45 am]

BILLING CODE 6450-01-P